DEPARTMENT OF ENERGY

Federal Energy Regulatory Commission

Notice of Proposed Change in Land Rights, and Soliciting Comments, Motions to Intervene, and Protests

November 30, 2000.

Take notice that the following hydroelectric application has been filed with the Federal Energy Regulatory Commission and is available for public inspection:

a. Type of Application: Change in Land Rights.

b. Project No: 2738-049.

c. Date Filed: September 27, 2000.

d. Applicant: New York State Electric and Gas Corporation (NYSEG).

e. Name of Project: Saranac River Hydroelectric Project.

f. Location: The subject parcel is located upstream from the Kents Falls dam, near the Kents Falls Reservoir, in Clinton County, New York.

g. Filed Pursuant to: Federal Power Act, 16 U.S.C. 791(a)-825(r).

h. Applicant Contact: Carol A. Howland, Project Environmental Specialist, NYSEG, P.O. Box 5224, Binghamton, New York, 13902, (607) 729-2551.

i. FERC Contact: Any questions concerning this notice should be addressed to Paul Friedman at (202) 208-1108; e-mail: paul.friedman@ferc.fed.us.

j. Deadline for filing comments, motions, or protests: January 5, 2001.

All documents (original and eight copies) should be filed with: David P. Boergers, Secretary, Federal Energy Commission, 888 First Street, NE, Washington, DC 20426. Please include the Project No. (2738-049) on any comments or motions filed. Comments may be filed electronically via the internet in lieu of paper. See 18 CFR 385.2001(a)(1)(iii) and the instructions on the Commission web site at http://www.ferc.fed/efi/doorbell.htm.

k. Description of Project: The Kents Falls development consists of: (1) a 172-foot-wide, 59-foot-high, concrete gravity dam; (2) a reservoir with a surface area of 43 acres; (3) a penstock; (4) a powerhouse; (5) headworks; (6) surge tank; and (7) appurtenant facilities. The change in land rights would be for a 101 acre parcel located within the project boundary for the Kents Falls development. The purpose of the change in land rights is to allow the licensee to convey project lands to Clinton County, to allow for the future expansion of the county's adjacent existing land fill.

l. Locations of this application: A copy of the application is available for inspection and reproduction at the Commission's Public Reference Room located at 888 First Street, NE, Washington, D.C. 20426, or by calling (202) 208-1371. The filing may be viewed on http://www/ferc/fed.us.online/rims.htm (call (202) 208-2222 for assistance). A copy is also available for inspection and reproduction at the address in item h. above.

m. Individuals desiring to be included on the Commission's mailing list should so indicate by writing to the Secretary of the Commission.

Comments, Protests, or Motions to Intervene—Anyone may submit comments, a protest, or a motion to intervene in accordance with the requirements of Rules of Practice and Procedure, 18 CFR sections 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS,” “RECOMMENDATIONS FOR TERMS AND CONDITIONS,” “PROTEST” OR “MOTION TO INTERVENE,” as applicable, and the project number of the particular application to which the filing is in response. Any of these documents must be filed by providing the original and 8 copies to: The Secretary, Federal Energy Regulatory Commission, 888 First Street, N.E., Washington, DC 20426. Motions to intervene must also be served upon each representative of the applicant specified in the particular application.

Agency Comments—The Commission invites federal, state, and local agencies to file comments on the described application. (Agencies may obtain a copy of the application directly from the applicant. The application may be viewed on the web site at www.ferc.fed.us. Call (202) 208-2222 for assistance.) If an agency does not file comments within the time specified for filing comments, the Commission will presume that the agency has none. One copy of an agency's comments must also be sent to the applicant's representatives.

David P. Boergers,
Secretary.

[FR Doc. 00-30980 Filed 12-5-00; 8:45 am]

BILLING CODE 6717-01-M